OFFICE OF THE UNITED STATES TRADE REPRESENTATIVE

Trade Policy Staff Committee; Public Comments on Proposed United States-Singapore Free Trade Agreement

AGENCY: Office of the United States Trade Representative.

ACTION: Notice of extension of time to provide comments.

SUMMARY: This publication gives notice that the Trade Policy Staff Committee (TPSC) is extending the deadline for the public to provide written comments to assist the United States Trade Representative (USTR) in formulating objectives for the negotiations with the Republic of Singapore to conclude a free trade agreement agreement and to provide advice on how specific goods and services and other matters should be treated under the agreement.

DATES: Public comments should be received by noon, January 5, 2001.

FOR FURTHER INFORMATION CONTACT: For procedural questions concerning public comments, contact Gloria Blue, Executive Secretary, TPSC, Office of the USTR, 600 17th Street, NW., Washington, DC 20508 (202) 395-3475. All other questions regarding the negotiations should be addressed to Barbara Weisel, Deputy Assistant US Trade Representative for Bilateral Asian Affairs, Office of the USTR (202) 395-6813.

SUPPLEMENTARY INFORMATION: On November 16, 2000, President Clinton agreed with Singapore's Prime Minister Goh Chok Tong to negotiate a bilaterial free trade agreement. In the negotiations, the United States and Singapore will seek to eliminate duties and commercial barriers to bilateral trade in U.S.-and Singaporean-origin goods and also expect to address trade in services, investment, trade-related aspects of intellectual property rights, trade-related environmental and labor matters, and other issues. Two-way trade between the United States and Singapore totaled $34.4 billion in 1999. The free trade agreement will be modeled upon the recently signed free trade agreement between Jordan and the United States, but will recognize the substantial volume of trade between Singapore and the United States.

In a notice published in the Federal Register on November 29, 2000, USTR requested written comments from the public to assist USTR in formulating negotiating objectives for the agreement and to provide advice on how specific goods and services and other matters should be treated under the agreement, to be submitted no later than December 19, 2000. USTR has decided to extend the deadline for submission of comments to January 5, 2001. 65 FR 71197.

Written Comments

Written comments should conform to the instructions indicated in the notice published on November 29, 2000.

Carmen Suro-Bredie,
Chair, Trade Policy Staff Committee, Office of the U.S. Trade Representatives.

[FR Doc. 00-32646 Filed 12-21-00; 8:45 am]

BILLING CODE 3190-01-P